FEDERAL HOUSING FINANCE BOARD

[No. 2001-N-8]

Submission for OMB Review; Comment Request

AGENCY: Federal Housing Finance Board.

ACTION: Notice.

SUMMARY: In accordance with the requirements of the Paperwork Reduction Act of 1995, the Federal Housing Finance Board (Finance Board) hereby gives notice that it has submitted the information collection entitled “Members of the Banks” to the Office of Management and Budget (OMB) for review and approval of a three-year extension of the OMB control number, which is due to expire on April 30, 2001.

DATES: Interested persons may submit comments on or before May 3, 2001.

ADDRESSES: Submit comments to the Office of Information and Regulatory Affairs of the Office of Management and Budget, Attention: Desk Officer for the Federal Housing Finance Board, Washington, DC 20503. Address requests for copies of the information collection and supporting documentation to Elaine L. Baker, Secretary to the Board, by telephone at 202/408-2837, by electronic mail at bakere@fhfb.gov, or by regular mail at the Federal Housing Finance Board, 1777 F Street, NW., Washington, DC 20006.

FOR FURTHER INFORMATION CONTACT: Jonathan F. Curtis, Senior Financial Analyst, Market Research and System Analysis Division, Office of Policy, Research and Analysis, by telephone at 202/408-2866, by electronic mail at curtisj@fhfb.gov, or by regular mail at the Federal Housing Finance Board, 1777 F Street, NW., Washington, DC 20006.

SUPPLEMENTARY INFORMATION:

A. Need for and Use of Information Collection

Section 4 of the Federal Home Loan Bank Act (Bank Act) establishes the eligibility requirements for an institution to become a member of a Federal Home Loan Bank (FHLBank). See 12 U.S.C. 1424. Part 925 of the Finance Board's regulations (membership regulation) implements section 4 of the Bank Act. See 12 CFR part 925. The membership regulation provides uniform application requirements an applicant for FHLBank membership must meet and review criteria a FHLBank, and where appropriate, the Finance Board, must apply to determine whether the applicant satisfies the statutory and regulatory membership requirements. More specifically, the membership regulation implements the statutory eligibility requirements and provides guidance to an applicant on how it may satisfy the requirements. The regulation authorizes a FHLBank to approve or deny each membership application and permits an applicant to appeal a FHLBank denial to the Finance Board.

The information collection, which is contained in § 925.2 through § 925.31 of the membership regulation, 12 CFR 925.2-925.31, is necessary to enable the FHLBanks and, where appropriate, the Finance Board, to determine whether: (i) An institution satisfies the statutory and regulatory membership requirements; (ii) an annual adjustment to a member's minimum FHLBank stockholding requirement is necessary; (iii) a member may withdraw; and (iv) a member can transfer to a different FHLBank district.

The OMB number for the information collection is 3069-0004. The OMB clearance for the information collection expires on April 30, 2001.

The likely respondents are institutions that are or want to become members of a FHLBank.

B. Burden Estimate

The Finance Board estimates that a total annual average of 865 institutions will apply for FHLBank membership, with 1 application per institution. The estimate for the average hours per application is 21 hours. The Finance Board estimates that a total annual average of 1 institution will submit an appellate application to the Finance Board. The estimate for the annual hour burden for institutions applying for FHLBank membership is 18,175 hours (865 applicants × 1 application × 21 hours + 1 appellate application × 10 hours).

The Finance Board estimates a total annual average of 7,577 FHLBank members will submit a capital stock calculation worksheet, with 1 response per member. The estimate for the average hours per worksheet is 0.6 hours. The estimate for the annual hour burden for capital stock calculation worksheets is 4,547 hours (7, 577 members × 1 worksheet × 0.6 hours).

The Finance Board estimates a total annual average of 5 members will file a notice of intent to withdraw from membership, with 1 notice per member. The estimate for the average hours per notice is 0.6 hours. The estimate for the annual hour burden for withdrawal notices is 3 hours (5 members × 1 notice × 0.6 hours).

The Finance Board estimates a total annual average of 5 members will request a transfer of membership to another FHLBank district, with 1 request per member. The estimate for the average hours per request is 3.5 hours. The estimate for the annual hour burden for transfer requests is 17.5 hours (5 members × 1 request × 3.5 hours).

The Finance Board estimates that the total annual hour burden for all respondents is 22,742.5 hours.

C. Comment Request

In accordance with the requirements of 5 CFR 1320.8(d), the Finance Board published a request for public comments regarding this information collection in the Federal Register on December 22, 2000. See 65 FR 80863 (Dec. 22, 2000). The 60-day comment period closed on February 20, 2001. The Finance Board received no public comments. Written comments are requested on: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology. Comments may be submitted to OMB in writing at the address listed above.

Dated: March 28, 2001.
By the Federal Housing Finance Board.
James L. Bothwell,
Managing Director.

[FR Doc. 01-8079 Filed 4-2-01; 8:45 am]

BILLING CODE 6725-01-P